DEPARTMENT OF COMMERCE

International Trade Administration

[A-533-809]

Stainless Steel Flanges From India: Notice of Final Results of Antidumping Duty Administrative Review and Revocation in Part

AGENCY: Import Administration, International Trade Administration, Department of Commerce.

SUMMARY: On March 7, 2005, the Department of Commerce (the Department) published in the Federal Register the preliminary results of its administrative review of the antidumping duty order on stainless steel flanges from India. See Certain Forged Stainless Steel Flanges from India; Preliminary Results of Antidumping Duty Administrative Review and Intent to Revoke the Order in Part, 70 FR 10953 (March 7, 2005) (Preliminary Results). This review covers imports of subject merchandise from Viraj Forgings, Ltd. (Viraj), and Echjay Forgings Pvt., Ltd. (Echjay). The period of review (POR) is February 1, 2003, through January 31, 2004.

Based on our analysis of the comments received, we have made no changes in the margin calculations for either Viraj or Echjay. Therefore, the final results do not differ from the preliminary results. The final weighted-average dumping margins for Viraj and Echjay are listed below in the section entitled “Final Results of Review.” In addition, we are revoking Viraj from the order.

DATES: Effective Date: July 12, 2005.

FOR FURTHER INFORMATION CONTACT: Fred Baker, Mike Heaney, or Robert James, AD/CVD Operations, Office 7, Import Administration, International Trade Administration, U.S. Department of Commerce, 14th Street and Constitution Avenue, NW., Washington, DC 20230, telephone: (202) 482-2924, (202) 482-4475, or (202) 482-0649, respectively.

SUPPLEMENTARY INFORMATION:

Background

On March 7, 2005, the Department published the Preliminary Results. We invited parties to comment on those preliminary results. On April 6, 2005, we received a case brief from Echjay. No party filed rebuttal comments.

Period of Review

The POR is February 1, 2003, through January 31, 2004.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheading is provided for convenience and customs purposes, the written description of the merchandise under review is dispositive of whether or not the merchandise is covered by the scope of the order.

Revocation

On March 1, 2004, Viraj requested revocation of the antidumping duty order with respect to its sales of the subject merchandise, pursuant to 19 CFR 351.222(b). In a March 12, 2004 submission Viraj provided each of the certifications required under 19 CFR 351.222(e).

The Department may revoke, in whole or in part, an antidumping duty order upon completion of a review under section 751 of the Tariff Act. While Congress has not specified the procedures that the Department must follow in revoking the order, the Department has developed a procedure for revocation that is described in 19 CFR 351.222. This regulation requires, inter alia, that a company requesting revocation must submit the following: (1) A certification that the company has sold the subject merchandise at not less than normal value (NV) in the current review period and that the company will not sell subject merchandise at less than NV in the future; (2) a certification that the company sold commercial quantities of the subject merchandise to the United States in each of the three years forming the basis of the request; and (3) an agreement to immediate reinstatement of the order if the Department concludes that the company, subsequent to the revocation, sold subject merchandise at less than NV. See 19 CFR 351.222(e)(1). Upon receipt of such a request, the Department will consider: (1) Whether the company in question sold subject merchandise at not less than NV for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping. See 19 CFR 351.222(b)(2).

In the preliminary results, we found the request from Viraj met all of the criteria under 19 CFR 351.222. We continue to find this is the case for Viraj. With regard to the criteria of 19 CFR 351.222(b)(2), our final margin calculations show that Viraj sold stainless steel flanges at only a de minimis level of dumping during the current period. See dumping margins below. In addition, Viraj sold stainless steel flanges at not less than NV in the two previous administrative reviews (i.e., Viraj's dumping margin was either zero or de minimis). See Certain Forged Stainless Steel Flanges from India; Final Results of Antidumping Duty Administrative Review, 69 FR 10409 (March 5, 2004) and Certain Forged Stainless Steel Flanges from India: Final Results and Partial Rescission of Antidumping Duty Administrative Review, 68 FR 42005 (July 16, 2003).

Based on our examination of the sales data submitted by Viraj, we determine that it sold the subject merchandise in the United States in commercial quantities in this review and each of the two prior administrative reviews. Additionally, we find that the continued application of the antidumping duty order is not otherwise necessary to offset dumping. Therefore, we determine that Viraj qualifies for revocation of the order on stainless steel flanges pursuant to 19 CFR 351.222(b)(2) and that the order with respect to merchandise produced and exported by Viraj should be revoked. In accordance with 19 CFR 351.222(f)(3), we are terminating the suspension of liquidation for any of the merchandise in question that is entered, or withdrawn from warehouse, for consumption on or after February 1, 2004, and will instruct U.S. Customs and Border Protection (CBP) to refund any cash deposits for such entries.

Analysis of Comments Received

All issues raised in Echjay's brief to this administrative review are addressed in the “Issues and Decision Memorandum” (Decision Memorandum) from Barbara E. Tillman, Acting Deputy Assistant Secretary, Import Administration, to Joseph A. Spetrini, Acting Assistant Secretary for Import Administration, dated July 5, 2005, which is hereby adopted by this notice. A list of the issues which parties have raised and to which we have responded, all of which are in the Decision Memorandum, is attached to this notice as an appendix. Parties can find a complete discussion of all issues raised in this review and the corresponding recommendations in this public memorandum which is on file in the Central Records Unit, room B-099 of the main Department of Commerce building. In addition, a complete version of the decision memorandum can be accessed directly on the Web at http://ia.ita.doc.gov/. The paper copy and electronic version of the decision memorandum are identical in content.

Final Results of Review

As a result of our review, we determine the weighted-average dumping margins for the period February 1, 2003, through January 31, 2004, to be as follows:

Manufacturer/exporter | Margin (percent)
Echjay Forgings Pvt., Ltd | 0.03
Viraj Forgings, Ltd | 0.01

The Department will determine, and CBP shall assess, antidumping duties on all appropriate entries. We have calculated importer-specific duty assessment rates for the merchandise in question based on the ratio of the total amount of antidumping duties calculated for the examined sales to the total entered value of those sales. Pursuant to 19 CFR 351.106(c)(2), we will instruct CBP to liquidate without regard to antidumping duties any entries for which the assessment rate is de minimis (i.e., less than 0.50 percent). To determine whether the duty assessment rates were de minimis, we calculated importer-specific ad valorem ratios based on export prices. We will direct CBP to assess the resulting assessment rates uniformly on all entries of that particular importer made during the period of review. The Department will issue assessment instructions directly to CBP within 15 days of publication of these final results of review.

Cash Deposit Requirements

Because we have revoked the order with respect to Viraj's exports of subject merchandise, we will order CBP to terminate the suspension of liquidation for exports of such merchandise entered, or withdrawn from warehouse, for consumption on or after February 1, 2004, and to refund all cash deposits collected for such unliquidated entries.

The following deposit requirements will be effective upon publication of this notice of final results of administrative review for all shipments of the subject merchandise entered, or withdrawn from warehouse, for consumption on or after the publication, as provided by section 751(a)(1) of the Tariff Act: (1) Since the margin for Echjay was less than 0.50 percent, and hence de minimis, no cash deposit shall be required for Echjay; (2) for previously reviewed or investigated companies not listed above, the cash deposit will continue to be the company-specific rate published for the most recent period; (3) if the exporter is not a firm covered in this review, a prior review, or the original investigation, but the manufacturer is, the cash deposit rate will be that established for the most recent period for the manufacturer of the merchandise; and (4) if neither the exporter nor the manufacturer is a firm covered in this review, any previous reviews, or the LTFV investigation, the cash deposit rate will be 162.14 percent, the “all others” rate established in the LTFV investigation. See Amended Final Determination and Antidumping Duty Order; Certain Forged Stainless Steel Flanges from India; 59 FR 5994 (February 9, 1994).

These deposit requirements, when imposed, shall remain in effect until publication of the final results of the next administrative review.

Notification of Interested Parties

This notice also serves as a reminder to importers of their responsibility under 19 CFR 351.402(f) to file a certificate regarding the reimbursement of antidumping duties or countervailing duties prior to liquidation of the relevant entries during this review period. Failure to comply with this requirement could result in the Secretary's presumption that reimbursement of antidumping duties or countervailing duties occurred and the subsequent assessment of double antidumping duties or countervailing duties.

This notice also serves as a reminder to parties subject to administrative protective orders (APOs) or their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(I) of the Tariff Act.

Dated: July 5, 2005.
Barbara E. Tillman,
Acting Assistant Secretary for Import Administration.

Appendix—Issues Raised in Decision Memorandum

Comment 1: Assignment of Antidumping Rate to Exporter As Well As Manufacturer

[FR Doc. E5-3688 Filed 7-11-05; 8:45 am]

BILLING CODE 3510-DS-P